DEPARTMENT OF COMMERCE

National Oceanic and Atmospheric Administration

RIN 0648-XC062

Draft 2012 Marine Mammal Stock Assessment Reports

AGENCY: National Marine Fisheries Service (NMFS), National Oceanic and Atmospheric Administration (NOAA), Commerce.

ACTION: Notification of availability; reopening of public comment period.

SUMMARY: NMFS reviewed the Alaska, Atlantic, and Pacific regional marine mammal stock assessment reports (SARs) in accordance with the Marine Mammal Protection Act, and solicited public comment on draft 2012 SARs. Subsequently, SARs for ten stocks of marine mammals in the Atlantic region have been updated with revised abundance estimates and some corrections to bycatch estimates. NMFS solicits public comments on revised draft 2012 SARs for these ten stocks.

DATES: Comments must be received by April 16, 2013.

ADDRESSES: The ten revised 2012 draft SARs and supporting documentation are available in electronic form via the Internet at http://www.nmfs.noaa.gov/pr/sars/draft.htm. Copies of the ten revised draft Atlantic SARs may be requested from Gordon Waring, Northeast Fisheries Science Center, 166 Water St., Woods Hole, MA 02543.

You may submit comments, identified by NOAA-NMFS-2012-0119, by any of the following methods:

Electronic Submissions: Submit all electronic public comments via the Federal eRulemaking Portal. http://www.regulations.gov. Go to www.regulations.gov/#!docketDetail;D=NOAA-NMFS-2012-0119, click the “Comment Now!” icon, complete the required fields, and enter or attach your comments.

Mail: Send comments or requests for copies of reports to: Chief, Marine Mammal and Sea Turtle Conservation Division, Office of Protected Resources, National Marine Fisheries Service, 1315 East-West Highway, Silver Spring, MD 20910-3226, Attn: Stock Assessments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter N/A in the required fields if you wish to remain anonymous). Attachments to electronic comments will be accepted in Microsoft Word, Excel, or Adobe PDF file formats only.

FOR FURTHER INFORMATION CONTACT: Shannon Bettridge, Office of Protected Resources, 301-427-8402, Shannon.Bettridge@noaa.gov; or Gordon Waring, 508-495-2311, Gordon.Waring@noaa.gov.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term strategic stock means a marine mammal stock: (A) For which the level of direct human-caused mortality exceeds the potential biological removal level; (B) which, based on the best available scientific information, is declining and is likely to be listed as a threatened species under the Endangered Species Act within the foreseeable future; or (C) which is listed as a threatened species or endangered species under the Endangered Species Act. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information. NMFS solicited public comments on the draft 2012 SARs on August 7, 2012 (77 FR 47043); the 90-day public comment period closed on November 5, 2012.

Subsequent to soliciting public comment on the draft 2012 SARs, NMFS revised the 2011 abundance estimates and the 2010 northeast sink gillnet serious injury and mortality estimates for several Atlantic marine mammal stocks after discovering errors based upon further review of the abundance estimation methods and upon receiving updated bycatch data. This new information prompted the agency to correct and revise the SARs for the following marine mammal stocks affected by these updates: fin whale, western North Atlantic stock; sei whale, Nova Scotia stock; minke whale Canadian east coast stock; sperm whale, North Atlantic stock; Cuvier's beaked whale, western North Atlantic stock; Gervais' beaked whale, western North Atlantic stock; Sowerby's beaked whale, western North Atlantic stock; Risso's dolphin, western North Atlantic stock; Atlantic white-sided dolphin, western North Atlantic stock; and harbor porpoise, Gulf of Maine/Bay of Fundy stock. NMFS solicits public comment on the revised draft 2012 SARs for these ten stocks.

Summary of Revisions to Atlantic Reports

The following summarizes the revisions made to the original draft 2012 SARs. The 2011 abundance estimate for fin whale, western North Atlantic stock, in the draft 2012 SAR (77 FR 47043, August 7, 2012) has changed from 3,628 (CV = 0.24) to 1,595 (CV = 0.33). This change does not affect the minimum population estimate (Nmin) or the potential biological removal level (PBR) calculation, as the 2007 estimate is still considered the best abundance estimate and is used to calculate Nmin and PBR.

The abundance estimate for sei whale, Nova Scotia stock, in the draft 2012 SAR (77 FR 47043, August 7, 2012) has changed from 467 (CV = 0.67) to 357 (CV = 0.52); Nmin changed from 279 to 236; and PBR changed from 0.6 to 0.5.

The 2011 abundance estimate for minke whale, Canadian east coast stock, in the draft 2012 SAR (77 FR 47043, August 7, 2012) has changed from 7,817 (CV = 0.29) to 2,591 (CV = 0.81). This change does not affect Nmin or the PBR calculation, as the 2007 estimate is still considered the best abundance estimate and is used to calculate Nmin and PBR.

The abundance estimate for sperm whale, North Atlantic stock, in the draft 2012 SAR (77 FR 47043, August 7, 2012) has changed from 1,584 (CV = 0.40) to 1,593 (CV = 0.36); Nmin changed from 1,142 to 1,187; and PBR changed from 2.3 to 2.4.

The abundance estimate for Cuvier's beaked whale, western North Atlantic stock, in the draft 2012 SAR (77 FR 47043, August 7, 2012) has changed from 5,611 (CV = 0.42) to 4,962 (CV = 0.37); Nmin changed from 3,992 to 3,670; and PBR declined from 40 to 37.

The abundance estimate for Gervais' beaked whale, western North Atlantic stock, in the draft 2012 SAR (77 FR 47043, August 7, 2012) has changed from 1,945 (CV = 1.0) to 1,847 (CV = 0.96); Nmin changed from 966 to 935; and PBR changed from 9.7 to 9.4.

The abundance estimate for Sowerby's beaked whale, western North Atlantic stock, in the draft 2012 SAR (77 FR 47043, August 7, 2012) has changed from 3,748 (CV = 0.86) to 3,653 (CV = 0.69); Nmin increased from 2,008 to 2,160; and PBR increased from 20 to 22.

The abundance estimate for Risso's dolphin, western North Atlantic stock, in the draft 2012 SAR (77 FR 47043, August 7, 2012) has changed from 17,734 (CV = 0.42) to 15,197 (CV = 0.55); Nmin decreased from 12,630 to 9,857; and PBR changed from 121 to 95.

The abundance estimate for Atlantic white-sided dolphin, western North Atlantic stock, in the draft 2012 SAR (77 FR 47043, August 7, 2012) has changed from 45,592 (CV = 0.54) to 48,819 (CV = 0.61); Nmin increased from 29,806 to 30,403; and PBR increased from 298 to 304. Total annual estimated average fishery-related mortality or serious injury to this stock during 2006-2010 changed from 213 to 212. Average annual estimated fishery-related mortality attributed to the Northeast sink gillnet fishery during 2006-2010 decreased from 39 to 38 white-sided dolphins per year.

The abundance estimate for harbor porpoise, Gulf of Maine/Bay of Fundy stock, in the draft 2012 SAR (77 FR 47043, August 7, 2012) has changed from 61,959 (CV = 0.32) to 79,833 (CV = 0.32); Nmin increased from 47,635 to 61,415; and PBR changed from 548 to 706. The total annual estimated average human-caused mortality changed from 840 to 835 harbor porpoises per year; 791 attributed to U.S. fisheries (changed from 796). The average annual harbor porpoise mortality and serious injury attributed to the Northeast sink gillnet fishery from 2006 to 2010 changed from 515 to 511 (CV = 0.17).

The average annual harbor porpoise mortality and serious injury attributed to the mid-Atlantic gillnet fishery listed in the draft 2012 SAR (77 FR 47043, August 7, 2012) from 2006 to 2010 has changed from 276 to 275 (CV = 0.35).

Dated: January 10, 2013.
Helen M. Golde,
Acting Director, Office of Protected Resources, National Marine Fisheries Service.

[FR Doc. 2013-00705 Filed 1-15-13; 8:45 am]

BILLING CODE 3510-22-P